DEPARTMENT OF VETERANS AFFAIRS

Special Medical Advisory Group, Notice of Meeting—Cancellation

The Department of Veterans Affairs (VA) gives notice under the Federal Advisory Committee Act that a meeting of the Special Medical Advisory Group (the Committee) that was scheduled for March 20, 2020 has been postponed. Details on a future meeting will be posted at a later date.

Dated: March 17, 2020.
LaTonya L. Small,
Federal Advisory Committee Management Officer.

[FR Doc. 2020-05990 Filed 3-20-20; 8:45 am]

BILLING CODE P